FEDERAL COMMUNICATIONS COMMISSION

[MM Docket No. 01-145; DA 01-1582]

MDS Two-Way Transmissions

AGENCY: Federal Communications Commission.

ACTION: Notice.

SUMMARY: The Mass Media Bureau, Video Services Division seeks comment on a request for declaratory ruling to remove minimum sub-carrier requirement for Orthogonal Frequency Division Multiplexing (“OFDM”) Modulation in the Multipoint Distribution Service (“MDS”) and Instructional Television Fixed Service (“ITFS”).

DATES: Comments due on or before July 19, 2001. Reply comments are due on or before July 26, 2001.

FOR FURTHER INFORMATION CONTACT: Brad Lerner (202) 418-7066, Video Services Division, Mass Media Bureau.

SUPPLEMENTARY INFORMATION: This is a synopsis of the Mass Media Bureau, Video Service Division's Public Notice entitled, Pleading Cycle Established for Comments on Request for Declaratory Ruling to Remove Minimum Sub-Carrier Requirement for Orthogonal Frequency Division Multiplexing Modulation in Multipoint Distribution Service and Instructional Television Fixed Service, DA 01-1582, MM Docket No. 01-145, released July 5, 2001. The full text of this Public Notice is available for inspection and copying during normal business hours in the FCC Reference Room, Room CY-A257, Portals II, 445 12th Street, S.W., Washington, D.C., and also may be purchased from the Commission's copy contractor, International Transcription Services, Inc. (“ITS”), Portals II, 445 12th Street, S.W. Room CY-B402, Washington, D.C. 20554.

Synopsis of Public Notice

On March 13, 2001, Cisco Systems, Inc. (“Cisco”) filed a request that the Commission remove a restriction on permitted OFDM modulation in the MDS and ITFS. Specifically, Cisco requests the Commission declare that a minimum of 256 QAM-modulated carriers (or tones) is not necessary in order to use OFDM modulation in the MDS and ITFS. On July 9, 1996, the Commission adopted a declaratory ruling which permits stations operating in the MDS and ITFS to utilize certain digital emissions on a regular basis, so long as those emissions meet certain requirements for power spectral uniformity and out-of-band emissions. The Commission amended its channel utilization policy to permit the routine authorization of digital transmissions using Vestigial Sideband Modulation (“VSB”) and Quadrature Amplitude Modulation (“QAM”), and indicated that the Commission would consider authorizing the use of other digital modulation schemes based upon demonstrations of noninterference. In a subsequent proceeding, the Commission adopted technical rule changes to provide MDS and ITFS licensees flexibility to fully employ digital technology in delivering two-way communication services and expanded the list of permissible modulation techniques to include Code Division Multiple Access (“CDMA”) and Quadrature Phase Shift Keying (“QPSK”) modulation.

On August 31, 1998, Clarity Wireless, Inc. (“Clarity”) filed a Petition for Declaratory Ruling requesting that the Commission authorize the use of OFDM digital modulation to provide MDS and ITFS networking. Based on a study commissioned by Clarity, the Commission declared that OFDM could be used in the MDS and ITFS and required that a minimum of 256 QAM-modulated carriers (or “tones”) be utilized.

In support of its request that the Commission remove the 256 QAM-modulation requirement, Cisco states the Commission has encouraged the use of new digital modulation techniques and established a flexible technology policy whereby advanced digital technologies would be authorized on a case-by-case basis. Cisco notes that the Commission has previously indicated that it would approve certain digital modulation types without test data if it were determined to be a subset of an already approved modulation type. Cisco asserts that the 256-tone limit adopted in the OFDM Order needlessly constrains the OFDM modulations, thereby preventing greater efficiencies in MDS/ITFS operations. Cisco states that removal of the 256 QAM-modulation requirement will allow designers to optimize their systems based on various channels and allow operators to provide a wider range of services to consumers.

Federal Communications Commission.
Barbara A. Kreisman,
Chief, Video Services Division, Mass Media Bureau.

[FR Doc. 01-17169 Filed 7-6-01; 8:45 am]

BILLING CODE 6712-01-P